DEPARTMENT OF TRANSPORTATION

Federal Aviation Administration

[Docket No. FAA-2025-1127]

Agency Information Collection Activities: Requests for Comments; Clearance of Renewed Approval of Information Collection: Recording of Aircraft Conveyances and Security Documents

AGENCY: Federal Aviation Administration (FAA), DOT.

ACTION: Notice and request for comments.

SUMMARY: In accordance with the Paperwork Reduction Act of 1995, FAA invites public comments about our intention to request approval from the Office of Management and Budget (OMB) to revise and renew an information collection. The Federal Register Notice with a 60-day comment period soliciting comments on the following collection of information was published on June 24, 2025. The collection involves a security holder completing an AC Form 8050-98, Aircraft Security Agreement and returning a completed AC Form 8050-41, Notice of Recordation—Aircraft Security Conveyance with Part II—Release to the Civil Aviation Registry, Aircraft Registration Branch (Registry). The information is used to record a security interest in an aircraft and eligible engines, propellers, and spare parts and release that interest when the debt is satisfied.

DATES: Written comments should be submitted by January 8, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Shantel Young by email at: shantel.young@faa.gov; phone: 405-954-7077.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0043.

Title: Recording of Aircraft Conveyances and Security Documents.

Form Numbers: AC Form 8050-98 and AC Form 8050-41.

Type of Review: Revision and Renewal of an information collection.

Background: The Federal Register Notice with a 60-day comment period soliciting comments on the following collection of information was published on June 24, 2025 (90 FR 26898). Title 49 U.S.C. 44107 provides for establishing and maintaining a system for the recording of security conveyances affecting an interest in U.S. civil aircraft and eligible engines, propellers, and spare parts, and for recording releases of those conveyances. Title 14 of the Code of Federal Regulations, Part 49 establishes procedures for the implementation of 49 U.S.C. 44107. Part 49 describes the information that must be contained in a recordable conveyance. Part 49 also describes the information that must be included in a release, cancellation, discharge or satisfaction of a conveyance.

A security holder submits a security conveyance against aircraft and eligible engines, propellers, and/or spare parts to the Registry for recording. The Registry provides an optional form, AC Form 8050-98, for security holders to use to record their security interest. The security holder may use their own form provided it meets recording requirements. Once the Registry records a security conveyance it sends an AC Form 8050-41, Notice of Recordation—Aircraft Security Conveyance, to the security holder. When the security conveyance is ready for release, the lienholder completes Part II—Release at the bottom of the form and returns it to the Registry as official notification that the debt has been satisfied. The security holder may also use their own form to release the security conveyance.

The AC Form 8050-98, Security Agreement, was moved from OMB collection 2120-0042—Aircraft Registration since it is not a form required for aircraft registration.

Respondents: 25,216 security conveyances and 18,252 release notifications were filed in FY2024.

Frequency: On occasion.

Estimated Average Burden per Response: 45 minutes and 15 minutes.

Estimated Total Annual Burden: 23,475 hours.

Issued in Oklahoma City, OK, on December 5, 2025.
Shantel Young,
Management and Program Analyst, Civil Aviation Registry, Aircraft Registration Branch, AFB-710.

[FR Doc. 2025-22321 Filed 12-8-25; 8:45 am]

BILLING CODE 4910-13-P